NATIONAL INDIAN GAMING COMMISSION

Notice of Approved Class III Tribal Gaming Ordinance

AGENCY: National Indian Gaming Commission.

ACTION: Notice.

SUMMARY: The purpose of this notice is to inform the public of the approval of Moapa Band of Paiutes Tribe Class III gaming ordinance by the Chairman of the National Indian Gaming Commission.

DATES: This notice is applicable July 28, 2025.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On July 24, 2023, the Chairman of the National Indian Gaming Commission approved Moapa Band of Paiutes Tribe Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: January 7, 2025.
Rea Cisneros,
General Counsel (Acting).

Editorial Note: This document was received for publication by the Office of the Federal Register on July 24, 2025.

July 24, 2023

VIA EMAIL

Chairman Gregory T. Anderson

P.O. Box 340

Moapa, Nevada 89025

Re: Moapa Band of Paiute Indians Amended Gaming Ordinance

Dear Chairman Anderson:

This letter responds to the June 15, 2023 submission on behalf of the Moapa Band of Paiute Indians (“Tribe”) informing the National Indian Gaming Commission that the Tribe amended its gaming ordinance. The Moapa Business Council adopted the amended gaming ordinance in Resolution M-23-06-01 on June 7, 2023.

The ordinance contains language in the definition of Gaming Operation that may be read as applying to individually owned gaming. The ordinance states that a “gaming operation may be operated by the Tribe directly; by a management contractor; or, under certain conditions, by another person or entity.” 1 The Tribe explained that this language is intended to apply to tribal corporations chartered under Section 17 of the Indian Reorganization Act of 1934 and that the provision does not allow for individually owned gaming. 2 Considering the Tribe's interpretation of the definition of Gaming Operation, the amendments to the amended gaming ordinance reflect updates that are consistent with the Indian Gaming Regulatory Act (IGRA) and NIGC regulations.

Thank you for bringing these amendments to our attention. The amended ordinance is approved as it is consistent with the requirements of IGRA and NIGC's regulations. If you have any questions or require anything further, please contact Rachel Hill at (918) 581-6214.

Sincerely,

E. Sequoyah Simermeyer,

Chairman.

[FR Doc. 2025-14197 Filed 7-25-25; 8:45 am]

BILLING CODE 7565-01-P